DEPARTMENT OF THE INTERIOR

Bureau of Land Management

[LL WO31000.L13100000.PB0000.24 1E]

Renewal of Approved Information Collection

AGENCY: Bureau of Land Management, Interior.

ACTION: 30-Day Notice and Request for Comments.

SUMMARY: The Bureau of Land Management (BLM) has submitted an information collection request to the Office of Management and Budget (OMB) to continue the collection of information from those who wish to assign record title or transfer operating rights in a lease for oil and gas or geothermal resources. The Office of Management and Budget (OMB) previously approved this information collection activity, and assigned it control number 1004-0034.

DATES: The OMB is required to respond to this information collection request within 60 days but may respond after 30 days. For maximum consideration, written comments should be received on or before June 1, 2012.

ADDRESSES: Please submit comments directly to the Desk Officer for the Department of the Interior (OMB #1004-0034), Office of Management and Budget, Office of Information and Regulatory Affairs, fax 202-395-5806, or by electronic mail at oira_docket@omb.eop.gov. Please provide a copy of your comments to the BLM. You may do so via mail, fax, or electronic mail.

Mail: U.S. Department of the Interior, Bureau of Land Management, 1849 C Street NW., Room 2134LM, Attention: Jean Sonneman, Washington, DC 20240.

Fax: to Jean Sonneman at 202-245-0050.

Electronic mail: Jean_Sonneman@blm.gov.

Please indicate “Attn: 1004-0034” regardless of the form of your comments.

FOR FURTHER INFORMATION CONTACT: Barbara Gamble, Division of Fluid Minerals, at 202-912-7148. Persons who use a telecommunication device for the deaf (TDD) may call the Federal Information Relay Service (FIRS) at 1-800-877-8339, to leave a message for Ms. Gamble. You may also review the information collection request online at http://www.reginfo.gov/public/do/PRAMain.

SUPPLEMENTARY INFORMATION: The Paperwork Reduction Act (44 U.S.C. 3501-3521) and OMB regulations at 5 CFR part 1320 provide that an agency may not conduct or sponsor a collection of information unless it displays a currently valid OMB control number. Until OMB approves a collection of information, you are not obligated to respond. In order to obtain and renew an OMB control number, Federal agencies are required to seek public comment on information collection and recordkeeping activities (see 5 CFR 1320.8(d) and 1320.12(a)).

As required at 5 CFR 1320.8(d), the BLM published a 60-day notice in the Federal Register on January 24, 2012 (77 FR 3496), and the comment period ended March 26, 2012. The BLM received no comments. The BLM now requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments as directed under ADDRESSES and DATES. Please refer to OMB control number 1004-0034 in your correspondence. Before including your address, phone number, email address, or other personal identifying information in your comment, you should be aware that your entire comment—including your personal identifying information—may be made publicly available at any time. While you can ask us in your comment to withhold your personal identifying information from public review, we cannot guarantee that we will be able to do so.

The following information is provided for the information collection:

Title: Oil, Gas, and Geothermal Resources: Transfers and Assignments (43 CFR Subparts 3106, 3135, and 3216).

Forms:

• Form 3000-3, Assignment of Record Title Interest in a Lease for Oil and Gas or Geothermal Resources; and

• Form 3000-3a, Transfer of Operating Rights (Sublease) in a Lease for Oil and Gas or Geothermal Resources.

OMB Control Number: 1004-0034.

Abstract: The information collected in Form 3000-3 enables the BLM to process applications to transfer interests in oil and gas or geothermal leases by assignment of record title. The information collected in Form 3000-3a enables the BLM to process applications to transfer operating rights in (i.e., sublease) oil and gas or geothermal leases. The information in both forms enables the BLM to identify the interest that is proposed to be assigned or transferred; determine whether the proposed assignee or transferee is qualified to obtain the interest sought; and ensure that the proposed assignee or transferee does not exceed statutory acreage limitations.

Frequency of Collection: On occasion. Responses are required to obtain or retain a benefit.

Estimated Number and Description of Respondents: 10,933 applicants who wish to assign record title or transfer operating rights in a lease for oil and gas or geothermal resources.

Estimated Reporting and Recordkeeping “Hour” Burden: 5,467 hours.

Estimated Reporting and Recordkeeping “Non-Hour Cost” Burden: $929,305.

Jean Sonneman,
Information Collection Clearance Officer, Bureau of Land Management.

[FR Doc. 2012-10583 Filed 5-1-12; 8:45 am]

BILLING CODE 4310-84-P